FEDERAL MARITIME COMMISSION

Ocean Transportation Intermediary License Reissuances

The Commission gives notice that the following Ocean Transportation Intermediary license has been reissued pursuant to section 19 of the Shipping Act of 1984 (46 U.S.C. 40101).

License No.: 016816N.

Name: Green Integrated Logistics, Inc.

Address: 16210 South Maple Avenue, Gardena, CA 90248.

Date Reissued: March 14, 2013.

Vern W. Hill,
Director, Bureau of Certification and Licensing.

[FR Doc. 2013-08386 Filed 4-9-13; 8:45 am]

BILLING CODE 6730-01-P